POSTAL SERVICE

39 CFR Part 20

International Product Changes

AGENCY: Postal Service.

ACTION: Final rule; correction.

SUMMARY: On April 22, 2016, the Postal Service published in the Federal Register a final rule concerning revisions to the Mailing Standards of the United States Postal Service, International Mail Manual (IMM®), to reflect classification changes to Competitive Services. Due to subsequent circumstances, it has become necessary to reschedule the effective date of that final rule. This document establishes a new effective date.

DATES: The effective date for the rule published on April 22, 2016 (81 FR 23634), is delayed until August 28, 2016.

FOR FURTHER INFORMATION CONTACT: Paula Rabkin at 202-268-2537.

SUPPLEMENTARY INFORMATION: On April 22, 2016, the United States Postal Service® filed a final rule (81 FR 23634) revising the Mailing Standards of the United States Postal Service, International Mail Manual (IMM), making classification changes to Competitive Services to support the shift of Priority Mail International® Flat Rate Envelopes and Small Flat Rate Priced Boxes from the letter-post stream to the air-parcel stream, with an effective date of June 3, 2016. Due to subsequent circumstances, the stated effective date will need to be changed. This document establishes a new effective date of August 28, 2016.

In rule FR Doc. 2016-09213 published on April 22, 2016 (81 FR 23634), the effective date is delayed until August 28, 2016.

Stanley F. Mires,
Attorney, Federal Compliance.

[FR Doc. 2016-13080 Filed 6-1-16; 8:45 am]

BILLING CODE 7710-12-P